DEPARTMENT OF HEALTH AND HUMAN SERVICES

National Institutes of Health

Proposed Collection; Comment Request; National Center for Complementary and Alternative Medicine Office of Communications and Public Liaison Communications Program Planning and Evaluation Research

SUMMARY: In compliance with the requirement of Section 3506(c)(2)(A) of the Paperwork Reduction Act of 1995, for opportunity for public comment on proposed data collection projects, the National Center for Complementary and Alternative Medicine (NCCAM), at the National Institutes of Health (NIH), will publish periodic summaries of proposed projects to be submitted to the Office of Management and Budget (OMB) for review and approval.

Proposed Collection: Title: NCCAM Office of Communications and Public Liaison Communications Program Planning and Evaluation Research. Type of Information Collection Request: New.

Need and Use of Information Collection: The NCCAM Office of Communications and Public Liaison (OCPL) requests clearance to collect data from individuals and organizations in order to conduct (1) formative research and (2) evaluation of activities, using both qualitative and quantative methods. OCPL communications goals include raising awareness of issues unique to complementary and alternative medicine (CAM) so that people and health care providers can make better, more informed decisions, and establishing NCCAM as the source for credible, authoritative CAM information.

Communicating about CAM presents unique challenges. The popularity of CAM is ever-increasing, yet only a small number of CAM modalities have been adequately tested for safety and effectiveness. At the same time, often misleading and unreliable claims of health benefits are delivered to the public by various sources. No other NIH institute or center is faced with the challenge of untested and unproven healing practices being as widely used by the public.

Established in 1999, NCCAM is still a new center within NIH. Furthermore, the field of CAM research is relatively new. Little research exists on NCCAM's audiences, their information needs, key messages, and strategies to reach them. This clearance will allow NCCAM OCPL to tailor and evaluate key health messages for its audiences.

Proposed formative research activities include market and consumer research, pretesting, and pilot testing. Through market and consumer research, OCPL will learn more about the composition and characteristics of the target audiences, which includes members of the general public, researchers, providers of both conventional and CAM health care, and the media. Results of market and consumer research will enable OCPL to identify opportunities for, and barriers to, shaping communication strategies. Pretesting will allow OCPL to refine and strengthen materials to ensure that they resonate with intended audiences. Pilot testing will allow OCPL to test and refine outreach and other program activities before full-scale implementation.

OCPL also wishes to evaluate messages, materials, and communication and outreach strategies during and after discussion to target audiences, in order to assess their effectiveness. Through process evaluation, OCPL will demonstrate the extent to which each product or activity reaches its intended market, effectively exposes audiences to the program's messages, and is used by gatekeeper audiences. Outcome evaluation will measure an activity's success, such as in creating an audience's knowledge of CAM issues, or promoting positive health behaviors. Impact evaluation will examine an activity's contribution to long-term goals, such as improving an audience's health status.

Through qualitative and quantitative research, OCPL can focus its efforts to hone its messages and activities, and thus expend limited program resource dollars efficiently, as the Office gains a broader and deeper understanding of intended audiences and of the effectiveness of its communications strategies. Data collection will help NCCAM meet its unique health communications challenges by providing information on the knowledge, attitudes, and behaviors of audiences faced with decisions about popular, yet unproven, healing practices.

Frequency of Response: Periodically or as needed. Affected Public: Individuals and households; nonprofit institutions; Federal Government; State, Local, or Tribal Government. Type of Respondents: Members of the public, health care professionals, organizational representations. The annual reporting burden is as follows. Estimated Number of Respondents: 13,490; Estimated Number of Responses per Respondent: 1; Average Burden Hours per Response: 0.18; and Estimated Total Burden Hours Requested: 2,455 for the 3-year clearance period (approximately 818 hours annually). There are no Capital Costs, Operating Costs, or Maintenance Costs to report.

Request for Comments: Written comments and/or suggestions from the public and affected agencies are invited on the following points: (1) Whether the proposed collection of information is necessary for the proper performance of the function of the agency, including whether the information will have practical utility; (2) The accuracy of the agency's estimate of the burden of the proposed collection of information, including the validity of the methodology and assumption used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Christy Thomsen, Director, Office of Communications and Public Liaison, NCCAM, 6707 Democracy Boulevard, Suite 401, Bethesda, MD 20892-5475, or fax your request to 301-480-3519, or e-mail thomsenc@mail.nih.gov. Ms. Thomsen can be contacted by telephone at 301-451-8876 (not a toll-free number).

Comments Due Date: Comments regarding this information collection are best assured of having their full effect if received within 60 days of the date of this publication.

Dated: September 4, 2003.
Christy Thomsen,
Director, Office of Communications and Public Liaison, National Center for Complementary and Alternative Medicine, National Institutes of Health.

[FR Doc. 03-23237 Filed 9-11-03; 8:45 am]

BILLING CODE 4140-01-M